DEPARTMENT OF ENERGY

Federal Energy Regulatory Commission

[Project No. 2997-031]

South Sutter Water District; Notice of Revised Procedural Schedule for Environmental Assessment for the Proposed Project Relicense

On December 28, 2023, the South Sutter Water District (SSWD) filed an application for a new license to continue to operate and maintain the 6.8-megawatt Camp Far West Hydroelectric Project No. 2997 (Camp Far West Project). On November 25, 2024, Commission staff issued a notice of intent to prepare an environmental assessment (EA) to evaluate the effects of relicensing the Camp Far West Project. The notice included an anticipated schedule for issuing the EA in November 2025.

Staff are still evaluating the effects of relicensing the Camp Far West Project. In order for staff to fully consider all the information filed by SSWD, the procedural schedule for completing the EA is being revised as follows. Further revisions to the schedule may be made as appropriate.

Milestone | Target date
Commission issues EA | February 27, 2026.
Commission on the EA | March 29, 2026.¹
¹ The Commission's Rules of Practice and Procedure provide that if a filing deadline falls on a Saturday, Sunday, holiday, or other day when the Commission is closed for business, the filing deadline does not end until the close of business on the next business day [18 CFR 385.2007(a)(2)(2025)]. Because the deadline for the 30-day comment period falls on a Sunday, the filing deadline will be extended until the close of business on Monday, March 30, 2026.

Questions regarding this notice may be directed to Quinn Emmering at (202) 502-6382 or Quinn.Emmering@ferc.gov.

Dated: November 20, 2025.
Debbie-Anne A. Reese,
Secretary.

[FR Doc. 2025-21050 Filed 11-24-25; 8:45 am]

BILLING CODE 6717-01-P